DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 21, 2009. Address written comments to Statutory Import Programs Staff, Room 3720, U.S. Department of Commerce, Washington, D.C. 20230. Applications may be examined between 8:30 A.M. and 5:00 P.M. at the U.S. Department of Commerce in Room 3720.

Docket Number: 09-017. Applicant: University of Iowa, 85 EMRB/CMRF, Iowa City, IA 52242. Instrument: Electron Microscope. Manufacturer: JEOL, Japan. Intended Use: The instrument will be used for a number of research activities in the areas of chemistry, biochemistry, internal medicine and environmental engineering. These research activities require a telescope with energy dispersive spectroscopy and electron energy loss spectroscopy. Justification for Duty-Free Entry: No U.S.-made instruments of same general category. Application accepted by Commissioner of Customs: April 16, 2009.

Dated: April 27, 2009.
Christopher Cassel,
Acting Director, IA Subsidies Enforcement Office.

[FR Doc. E9-10064 Filed 4-30-09; 8:45 am]

BILLING CODE; S